ENVIRONMENTAL PROTECTION AGENCY

40 CFR Part 70

[ME-063-7012b; A-1-FRL-7085-6]

Clean Air Act Final Approval of Operating Permits Program; State of Maine

AGENCY: Environmental Protection Agency (EPA).

ACTION: Proposed rule.

SUMMARY: EPA is proposing to fully approve the Operating Permits Program for the State of Maine (program) for the purpose of complying with Federal requirements. The program requires the state to issue operating permits to all major stationary sources and certain other sources. In the Final Rules Section of this Federal Register, EPA is approving the state's program submittal as a direct final rule without prior proposal because the Agency views this as a noncontroversial submittal and anticipates no adverse comments. A detailed rationale for the approval is set forth in the direct final rule. If EPA receives no relevant adverse comments in response to this action, the Agency contemplates no further activity. If EPA receives adverse comments, EPA will withdraw the direct final rule and the Agency will address all public comments in a subsequent final rule based on this proposed rule. EPA will not institute a second comment period. Any parties interested in commenting on this action should do so at this time. Please note that if EPA receives relevant adverse comment on an amendment, paragraph, or section of this rule and if that provision may be severed from the remainder of the rule, EPA may adopt as final those provisions of the rule that are not the subject of an adverse comment.

DATES: Written comments must be received on or before November 19, 2001.

ADDRESSES: Comments may be mailed to Steven A. Rapp, Unit Manager, Air Permits Program Unit, Office of Ecosystem Protection (mail code CAP), U.S. Environmental Protection Agency, EPA New England Regional Office, One Congress Street, Suite 1100, Boston, MA 02114-2023. Copies of the state submittal and EPA's technical support document are available for public inspection during normal business hours, by appointment at the Office of Ecosystem Protection, U.S. Environmental Protection Agency, EPA-New England Regional Office, One Congress Street, 11th floor, Boston, MA.

FOR FURTHER INFORMATION CONTACT: Donald Dahl, (617) 918-1657.

SUPPLEMENTARY INFORMATION: For additional information, see the direct final rule which is located in the Rules Section of this Federal Register.

Dated: October 6, 2001.
Robert W. Varney,
Regional Administrator, EPA New England.

[FR Doc. 01-26100 Filed 10-17-01; 8:45 am]

BILLING CODE 6560-50-P